ENVIRONMENTAL PROTECTION AGENCY

[EPA-HQ-OAR-2016-0546; FRL-10022-43-OAR]

Proposed Information Collection Request; Comment Request; Aircraft Engines—Supplemental Information Related to Exhaust Emissions

AGENCY: Environmental Protection Agency (EPA).

ACTION: Notice.

SUMMARY: The Environmental Protection Agency (EPA) is planning to submit an information collection request (ICR), “Aircraft Engines—Supplemental Information Related to Exhaust Emissions (Renewal)” (EPA ICR No. 2427.06, OMB Control No. 2060-0680), to the Office of Management and Budget (OMB) for review and approval in accordance with the Paperwork Reduction Act. Before doing so, EPA is soliciting public comments on specific aspects of the proposed information collection as described below. This is a proposed extension of the ICR, which is currently approved through December 31, 2021. An Agency may not conduct or sponsor and a person is not required to respond to a collection of information unless it displays a currently valid OMB control number.

DATES: Comments must be submitted on or before July 6, 2021.

ADDRESSES: Submit your comments, referencing Docket ID No. EPA-HQ-OAR-2016-0546, online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Cullen Leggett, Office of Transportation and Air Quality, Office of Air and Radiation, Environmental Protection Agency, 1200 Pennsylvania Ave. NW, Washington, DC 20460; telephone number: (734) 214-4514; fax number: (734) 214-4816; email address: leggett.cullen@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This information collection is being conducted by the United States (U.S.) Environmental Protection Agency's (EPA's) Office of Air and Radiation (OAR) pursuant to section 114 of the Clean Air Act, as amended (CAA or the Act), to assist the Administrator of EPA in developing emissions standards and/or to inform future policy making decisions for aircraft gas turbine engines pursuant to section 231 of the Act.

Under CAA section 231, the EPA is responsible for establishing standards for emissions from aircraft engines, and under CAA section 232, the Federal Aviation Administration (FAA) is responsible for enforcing these standards. The EPA and the FAA traditionally work within the standard-setting process of the International Civil Aviation Organization (ICAO) to establish international emission standards and related requirements, which individual nations later adopt into domestic law in fulfillment of their obligations under the Convention on International Civil Aviation (Chicago Convention).¹ Historically, international emission standards have first been adopted by ICAO, and subsequently the EPA has initiated rulemakings under CAA section 231 to establish domestic standards that are at least as stringent as ICAO's standards. The renewal of this ICR will ensure all the necessary information is gathered for in-production engines in order to support and inform any possible future policy making decisions.

¹ ICAO, 2006: Convention on International Civil Aviation, Ninth Edition, Document 7300/9, 114 pp. Available at: http://www.icao.int/publications/Documents/7300_9ed.pdf (last accessed March 31, 2021).

The EPA is not proposing to collect any additional data or apply this reporting to any additional respondents. However, the EPA is expanding the scope of this ICR to include supersonic aircraft engines in addition to subsonic aircraft engines. When this ICR was established and previously renewed, the only aircraft engines that were in production, in development, or in use were subsonic engines. Thus, the EPA only included subsonic engines and only referred to subsonic test procedures. Yet, standards in 40 CFR part 87 (Control of Air Pollution from Aircraft and Aircraft Engines) apply to both subsonic and supersonic aircraft engines.

Recently, there has been significant renewed interest in the development of supersonic aircraft and engines. Thus, the EPA is expanding this ICR to apply equally to all engines (subsonic and supersonic aircraft engines) that are required to meet standards under Part 87. The EPA is not expecting any supersonic engines to be certified by the FAA in the next three years, but the EPA wants to ensure it has access to this new emissions information in an expeditious manner so that the agency can understand the environmental impacts and inform any appropriate future standard setting activities under CAA section 231. The inclusion of supersonic engines would not expand the number of respondents; nor would it place any additional burden on the manufactures because the EPA is only requesting data related to standards under Part 87.

Form Numbers: EPA Form 5900-223.

Respondents/affected entities: Respondents affected by this action are the manufacturers of aircraft gas turbine engines subject to 40 CFR part 87. Table 1 below presents some examples of potentially affected entities according to NAICS code. Table 1 is not intended to be exhaustive, but rather provides a guide for respondents regarding facilities likely to be affected by this ICR.

Table 1—Examples of Potentially Affected Entities by Category
Category | NAICS code | Example of potentially affected entities
| 336412 | Aircraft Engine and Engine Parts Manufacturing.

Respondent's obligation to respond: Mandatory (pursuant to section 114 of the Clean Air Act).

Estimated number of respondents: 7 (total).

Frequency of response: Annual.

Total estimated burden: 456 hours (152 hours per year). Burden is defined at 5 CFR 1320.03(b).

Total estimated cost: $42,005 ($14,002 per year), includes $0 annualized capital or operation & maintenance costs.

Changes in Estimates: There is decrease of 1,050 hours in the total estimated respondent burden compared with the ICR currently approved by OMB. This decrease is due to the fact that one-time start-up costs to conduct nvPM measurements from jet engines were included in the previous ICR renewal. The initial cost for manufacturers was capital and labor intensive. These one-time costs were incurred in the past 3 years and are not expected to need to be repeated for these engines now that the data has been collected. If manufacturers develop a new subsonic engine with a thrust greater than 26.7kN, the nvPM measurements will need to be verified by the FAA. The introduction of new aircraft engines doesn't happen on a very frequent basis. The EPA is estimating that each manufacturer may introduce one subsonic engine over 26.7kN over the next three years, for a total of 6 engines (compared to an estimated 33 engines in the previous ICR). The estimated time manufacturers need to collect and report this data to the EPA remains the same.

William Charmley,
Director, Assessment and Standards Division.

[FR Doc. 2021-09684 Filed 5-6-21; 8:45 am]

BILLING CODE 6560-50-P